DEPARTMENT OF THE INTERIOR

Bureau of Land Management

[LLUT980300-L12100000-PH0000-24-1A]

Call for Nominations for the Utah Resource Advisory Council

AGENCY: Bureau of Land Management, Interior.

ACTION: Notice.

SUMMARY: The purpose of this notice is to request public nominations to fill one position on the Utah Resource Advisory Council (RAC) in category three (representatives of state, county, or local elected office; employees of a state agency responsible for management of natural resources; representatives of Indian tribes within or adjacent to the area for which the council is organized; representatives of academia who are employed in natural sciences; or the public-at-large).

DATES: All nominations must be received no later than December 28, 2011.

ADDRESSES: Nominations should be sent to Sherry Foot, Special Programs Coordinator, Utah State Office, Bureau of Land Management, 440 West 200 South, Suite 500, Salt Lake City, UT 84101.

FOR FURTHER INFORMATION CONTACT: Sherry Foot, Special Programs Coordinator, Utah State Office, 440 West 200 South, Suite 500, Salt Lake City, UT 84101; phone (801) 539-4195; or email sfoot@blm.gov.

Persons who use a telecommunications device for the deaf (TDD) may call the Federal Information Relay Service (FIRS) at 1-(800) 877-8339 to contact the above individual during normal business hours. The FIRS is available 24 hours a day, seven days a week, to leave a message or question with the above individual. You will receive a reply during normal business hours.

SUPPLEMENTARY INFORMATION: The Federal Land Policy and Management Act (FLPMA) directs the Secretary of the Interior to involve the public in planning and issues related to management of lands administered by the Bureau of Land Management (BLM). Section 309 of FLPMA directs the Secretary to establish 10- to 15-member citizen-based advisory councils that conform to the requirements of the Federal Advisory Committee Act (FACA). RAC membership must be balanced and representative of the various interests concerned with the land use planning and/or management of the public lands.

The BLM's Utah RAC is hosting a call for nominations for a position in category three (description addressed in the SUMMARY above, (43 CFR 1784.6-1(c)(3)). Upon appointment, the individual selected will fill the position until January 12, 2015. Nominees must be residents of Utah. BLM will evaluate nominees based on their education, training, experience, and their knowledge of the geographical area. Nominees should demonstrate a commitment to collaborative resource decision making. The Obama Administration prohibits individuals who are currently Federal-registered lobbyists to serve on all FACA and non-FACA boards, committees, or councils. The following must accompany all nominations:

—Letters of reference from represented interest or organizations,

—A completed background information nomination form; and,

—Any other information that addresses the nominee's qualifications.

Simultaneous with this notice, the BLM Utah State Office will issue a press release providing additional information for submitting nominations.

Shelley J. Smith,
Acting State Director.

[FR Doc. 2011-30493 Filed 11-25-11; 8:45 am]

BILLING CODE 4310-DQ-P